DEPARTMENT OF STATE

[Public Notice 7162]

Certification Related to Aerial Eradication in Colombia Under the International Narcotics Control and Law Enforcement Section of the Department of State Foreign Operations and Related Programs Appropriations Act, 2010 (Division F, Pub. L. 111-117)

Pursuant to the authority vested in the Secretary of State, including under the International Narcotics Control and Law Enforcement section of the Department of State Foreign Operations and Related Programs Appropriations Act, 2010, (Division F, Pub. L. 111-117), I hereby determine and certify that: (1) The herbicide used for aerial eradication of illicit crops in Colombia is being used in accordance with EPA label requirements for comparable use in the United States and in accordance with Colombian laws; (2) the herbicide, in the manner it is being used, does not pose unreasonable risks or adverse effects to humans or the environment including endemic species; and (3) complaints of harm to health or licit crops caused by such aerial eradication are thoroughly evaluated and fair compensation is being paid in a timely manner for meritorious claims.

This certification shall be published in the Federal Register, and copies shall be transmitted to the appropriate committees of Congress.

Dated: August 31, 2010.
Hillary Rodham Clinton,
Secretary of State.

[FR Doc. 2010-22757 Filed 9-10-10; 8:45 am]

BILLING CODE 4710-17-P